DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 26, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

Applicant: Thomas J. Moore, III, Ingram, TX, PRT-803337.

The applicant requests renewal of a permit to authorize interstate and foreign commerce, export, and cull of excess male barasingha (Cervus duvauceli) from his captive herd for the purpose of enhancement of the survival of the species. This notification covers activities conducted by the applicant over a period of three years. Permittee must apply for renewal annually.

Applicant: University of New Mexico/Depart. of Anthropology, Albuquerque, NM, PRT-013176.

The applicant requests renewal of a permit to authorize the import of biological samples from wild, captive-held, and captive-born chimpanzees (Pan troglodytes), pygmy chimpanzees (Pan paniscus), gorilla (Gorilla gorilla), and orangutan (Pongo pygmaeus) from various countries for the purpose of scientific research. This notification covers activities conducted by the applicant over a period of five years.

Applicant: National Aviary, Pittsburgh, PA, PRT-053886.

The applicant requests a permit to export viable eggs of captive-bred Manchurian cranes (Grus japonensis) and white-naped cranes (Grus vipio) to the Khinganski Nature Reserve, Arkara, Russia for the purpose of enhancement of the survival of the species through captive breeding and re-introduction to the wild. As this request for a permit is part of an ongoing program, this application file will be established as a master file from which a permit will be issued for this year's export, and as the basis for which permits can be issued for similar activities to be conducted by the applicant over the next 5 years.

The U.S. Fish and Wildlife Service has information collection approval from OMB through March 31, 2004, OMB Control Number 1018-0093. Federal Agencies may not conduct or sponsor and a person is not required to respond to a collection of information unless it displays a current valid OMB control number.

Dated: March 15, 2002.
Michael S. Moore,
Senior Permit Biologist, Branch of Permits, Division of Management Authority.

[FR Doc. 02-7316 Filed 3-26-02; 8:45 am]

BILLING CODE 4310-55-P